DEPARTMENT OF THE INTERIOR

Fish and Wildlife Service

[FWS-R5-ES-2008-N0210; 50120-1113-0000-F5]

Endangered and Threatened Wildlife and Plants; Permits

AGENCY: Fish and Wildlife Service, Interior.

ACTION: Notice of receipt of permit applications; request for comment.

SUMMARY: We, the U.S. Fish and Wildlife Service (Service), invite the public to comment on the following applications to conduct certain activities with endangered species.

DATES: Comments on these permit applications must be received on or before November 10, 2008.

ADDRESSES: Written data or comments should be submitted to the U.S. Fish and Wildlife Service, Endangered Species Program Coordinator, Region 5, 300 Westgate Center Drive, Hadley, Massachusetts (telephone: 413-253-8615; facsimile: 413-253-8482). Please refer to the respective permit number for each application when submitting comments.

FOR FURTHER INFORMATION CONTACT: Mary Parkin, Acting Endangered Species Permits Coordinator, see ADDRESSES (telephone: 413-253-8617; facsimile: 413-253-8482).

SUPPLEMENTARY INFORMATION: We solicit reviews and comments on the following applications for issuance of a scientific research permit and an enhancement of survival permit, respectively, to conduct certain activities with endangered species pursuant to Section 10(a)(1)(A) of the Endangered Species Act of 1973, as amended (16 U.S.C. 1531 et seq.).

We have made a determination that issuance of these permits would be categorically excluded from further consideration under the National Environmental Policy Act of 1969 (NEPA) (42 U.S.C. 4332(C)), as provided under part 516 of the Department of the Interior's Departmental Manual (DM) Chapter 2, Appendix 1, and 516 DM 8.

Permit Number: TE-191589

Applicant: Maine Cooperative Fisheries and Wildlife Unit, Orono, Maine.

The applicant requests a permit to take Atlantic salmon (Salmo salar) within the Gulf of Maine Distinct Population Segment in conjunction with a habitat use study in Washington, Hancock, and Penobscot Counties in Maine for the purpose of enhancing its survival and recovery.

Permit Number: TE-813745-1

Applicant: National Mohawk Power Corporation, dba National Grid, Syracuse, New York.

The applicant requests renewal of an existing valid permit to take Karner blue butterfly (Lycaeides melissa samuelis) in conjunction with operations resulting in maintenance of habitat for the purpose of enhancing its survival.

All comments received, including names and addresses, will become part of the official administrative record and may be made available to the public. Before including your address, telephone number, electronic mail address, or other personal identifying information in your comment, you should be aware that your entire comment—including your personal identifying information—may be made publicly available at any time. While you can ask us in your comment to withhold your personal identifying information from public review, we cannot guarantee that we will be able to do so.

We solicit public review and comment on each permit application. Comments and materials we receive will be available for public inspection, by appointment, during normal business hours at the address listed in the ADDRESSES section of this notice.

Author: The primary author of this notice is Mary Parkin from the Service's Northeast Regional Office, Endangered Species Program (see ADDRESSES section).

Authority: The authority for this section is the Endangered Species Act of 1973, as amended (16 U.S.C. 1531 et seq.).

Dated: August 6, 2008.
Sherry Morgan,
Acting Regional Director, Northeast Region, Fish and Wildlife Service.

[FR Doc. E8-23243 Filed 10-8-08; 8:45 am]

BILLING CODE 4310-55-P